DEPARTMENT OF AGRICULTURE

Office of the Secretary

Privacy Act of 1974; System of Records

AGENCY: Office of the Secretary, USDA.

ACTION: Notice of revision of Privacy Act systems of records.

SUMMARY: Notice is hereby given that the United States Department of Agriculture (USDA) is revising three Privacy Act (PA) systems of records, is deleting one system of records, and proposes to create a new system of records entitled “Current Research Information System,” USDA/CSREES-4, maintained by the Cooperative State Research, Education, and Extension Service (CSREES).

EFFECTIVE DATE: This notice will be adopted without further publication in the Federal Register on January 12, 2004 unless modified by a subsequent notice to incorporate comments received from the public. Comments must be received by the contact person listed below on or before January 2, 2004.

FOR FURTHER INFORMATION CONTACT: Valerie N. Herberger, FOIA/PA Coordinator, ARS, USDA, 5601 Sunnyside Avenue, Beltsville, MD 20705-5128; Telephone (301) 504-1640; Facsimile (301) 504-1648; Electronic mail vherberger@ars.usda.gov.

SUPPLEMENTARY INFORMATION: Pursuant to the PA, 5 U.S.C. 552a, USDA hereby takes the following action:

I. Three systems of records maintained by CSREES are being revised for the following reasons:

1. USDA/CSREES-1, “Current Research Information System.” The purposes of this revision to the system of records are to (1) change the designation from USDA/CSRS-1 to USDA/CSREES-1; (2) reflect organizational changes; (3) identify changes to system location, categories of individuals covered by the system, purpose, record storage, retrievability, safeguards, notification procedures, and record access procedures; (4) delete three routine uses no longer necessary or compatible with the purpose for which information was collected; and (5) add a new routine use.

2. USDA/CSREES-2, “International Programs Recruitment Roster.” The purposes of this revision to the system of records are to (1) change the designation from USDA/ES-1 to USDA/CSREES-2; (2) reflect organizational changes; (3) identify changes to system name and location, categories of records in the system, addresses for system manager and notification procedures, retention and disposal, and delete one routine use that is not a required routine use.

3. USDA/CSREES-3, “State Cooperative Extension Service Employees.” The purposes of this revision to the system of records are to (1) change the designation from USDA/ES-3 to USDA/CSREES-3; (2) reflect organizational changes; (3) identify changes to system location, categories of records in the system, safeguards, system manager address, and storage; and (4) add three routine uses.

II. One System of Records is being added as follows:

1. USDA/CSREES-4, “CSREES Grants System.” The purpose of this new system of records is to enable program offices to reference reviewers and maintain appropriate files and supporting material in processing, evaluating, and managing applications for grants or other support, including completing awards and distributing funds.

III. One System of Records is being deleted as follows:

1. USDA/ES-2, “Cooperative Extension Personnel Records System.” This system is being deleted because these records are no longer relevant and necessary to accomplish a purpose of the Agency and the records are no longer maintained by USDA.

A Privacy Act Systems Report relating to the proposed changes and new system required by 5 U.S.C. 552a(r), as implemented by OMB Circular A-130, was sent to the Administrator, Office of Information and Regulatory Affairs, Office of Management and Budget; the Chairwoman, Committee on Governmental Affairs, United States Senate; and the Chairman, Committee on Government Reform and Oversight, U.S. House of Representatives.

Signed at Washington, DC, on November 20, 2003.
Ann M. Veneman,
Secretary of Agriculture.

Privacy Act System “Current Research Information System,” USDA/CSREES-1 Report

The purpose of this system of records is to document the research activities of the USDA/State agricultural research system for various reporting purposes as well as to provide ready access to research information.

The revisions to the system of records are to change the designation from USDA/CSRS-1 to USDA/CSREES-1; reflect organizational changes; identify changes to system location, categories of individuals covered by the system, purpose, record storage, retrievability, safeguards, notification procedures, and record access procedures; delete three routine uses no longer necessary or compatible with the purpose for which information was collected, and add a new routine use.

The authorities for maintaining this system of records are 7 U.S.C. 361 a-i; 7 U.S.C. 3222; 7 U.S.C. 450; 7 U.S.C. 7621; 7 U.S.C. 7626; 7 U.S.C. 3152; 7 U.S.C. 3241; 7 U.S.C. 5811; and 7 U.S.C. 343.

Use of this system, as established, should not result in infringement of any individual's right to privacy.

Access to technical records are maintained on the CRIS Web site (http://cris.csrees.usda.gov) and available to anyone. Financial records will be in a safeguarded environment with access only by authorized personnel.

The system provides for one new routine use release, as follows:

Routine use 1 permits disclosure of the technical records in this system to the general public in order to inform them of agricultural related research, plan future research activities, avoid costly duplication of research, and establish valuable contacts within the research community.

The revised system of records will not be exempt from any provisions of the Privacy Act.

USDA/CSREES-1

System Name:

Current Research Information System (CRIS), USDA/CSREES-1.

System Location:

USDA, CSREES/ISTM/CRIS, Waterfront Centre, 800 9th Street, SW, Washington, DC 20024.

Categories of Individuals Covered by the System:

Scientists listed on research projects entered into the CRIS.

Categories of Records in the System:

The system consists of research projects of USDA agencies and CSREES grant recipients, and research projects of those State institutions receiving CSREES administered funds in support of research.

Authority for Maintenance of the System:

7 U.S.C. 361 a-i; 7 U.S.C. 3222; 7 U.S.C. 450; 7 U.S.C. 7621; 7 U.S.C. 7626; 7 U.S.C. 3152; 7 U.S.C. 3241; 7 U.S.C. 5811; and 7 U.S.C. 343.

Routine Uses of Records Maintained in the System, Including Categories of Users and the Purposes of Such Uses:

Technical records in this system may be disclosed to: (1) The general public in order to inform them of agricultural related research, plan future research activities, avoid costly duplication of research, and establish valuable contacts within the research community. Technical and financial records in this system may be disclosed to: (2) research scientists and Administrators of all governmental agencies and affiliated institutions in connection with information retrieval requests in special subject areas; (3) the Department of Justice when: (a) The agency or any component thereof; or (b) any employee of the agency in his or her official capacity where the Department of Justice has agreed to represent the employee; or (c) the United States Government is a party to litigation or has an interest in such litigation, and by careful review, the agency determines that the records are both relevant and necessary to the litigation and the use of such records by the Department of Justice is therefore deemed by the agency to be for a purpose that is compatible with the purpose for which the agency collected the records; (4) an appropriate agency, whether Federal, State, or local, charged with the responsibility of investigating or prosecuting a violation of law or rule, regulation, or order issued pursuant thereto, when information available indicates a violation or potential violation of law, whether civil, criminal, or regulatory in nature, and whether arising by general statute or particular program statute, or by rule, regulation, or order issued pursuant to such statute; (5) in response to a request for discovery or appearance of a witness, to the extent that what is disclosed is relevant to the subject matter involved in a pending judicial or criminal proceeding or in response to a subpoena issued in a proceeding before a court or adjudicative body, to the extent that the records requested are relevant to the proceedings; (6) a Member of Congress or to a Congressional staff member in response to an inquiry of the Congressional office made at the written request of the constituent about whom the record is maintained.

Policies and Practices for Storing, Retrieving, Accessing, Retaining, and Disposing of Records in the System:

Storage:

Technical records are maintained on the CRIS Web site (http://cris.csrees.usda.gov). Financial records are maintained on computer tapes and on other electronic media at the CRIS offices, the National Archives, and at the USDA National Computer Center, Kansas City.

Retrievability:

Records can be retrieved by name or project leader or co-investigator or any other data field.

Safeguards:

Access to the technical records in this system is available, via the Web site, to anyone. The financial records will be in a safeguarded environment with access only by authorized personnel.

Retention and Disposal:

Financial and classification records are maintained indefinitely by CRIS and the National Archives. Project information is maintained for two years following termination of the project.

System Manager(s) and Address:

Deputy Administrator, ISTM, USDA-CSREES, Stop 2270, 1400 Independence Avenue, SW, Washington, DC 20250-2270. The address for express mail or overnight courier service is: Deputy Administrator, ISTM, USDA-CSREES, Waterfront Centre, 800 9th Street, SW, Washington, DC 20024.

Notification Procedures:

Any individual may request information regarding this system of records or information as to whether the system contains records pertaining to such individual from the System Manager or can access the CRIS Web site.

Record Access Procedures:

Any individual may gain access to a record in the system that pertains to such individual by submitting a written request to the System Manager or by accessing the CRIS Web site.

Contesting Record Procedures:

Any individual may contest a record in the system that pertains to such individual by submitting written information to the System Manager.

Record Source Categories:

Information in this system comes from USDA research agencies and other institutions receiving CSREES administered funds for research.

Exemptions Claimed for the System:

None.

Privacy Act System “International Programs Recruitment Roster,” USDA/CSREES-2 Report

The purpose of this system of records is to have access to information on university personnel at cooperating institutions who have expressed an interest in participating in international activities carried out through CSREES. The computerized roster will allow CSREES, International Programs to quickly identify qualified candidates for overseas assignments and/or to utilize them as resources for International Programs office to search records according to skills and experience in order to meet staffing needs for foreign technical assistance activities. The revisions to the system of records are to change the designation from USDA/ES-1 to USDA/CSREES-2; reflect organizational changes; identify changes to system name and location, categories of records in the system, address for system manager and notification procedures, retention and disposal, and delete one routine use which is not a required routine use.

The authorities for maintaining this system of records are sections 296 and 297 of the Foreign Assistance Act of 1961, Pub. L. 87-195, 75 Stat. 424; and section 1458 of the National Agricultural Research, Extension, and Teaching Policy Act of 1977, 7 U.S.C. 301 et seq.

Use of the system, as established, should not result in infringement of any individual's right to privacy. While the information in this system will be made available to international organizations, Department of Justice, Federal, State, and local agencies, and Members of Congress as necessary, all individuals about whom information in this system is maintained will voluntarily submit the information for the expressed interest in participating in international activities carried out through CSREES.

On-line access to International Programs Recruitment Roster data is controlled by password protection. Information stored in file folders will be stored in locked file cabinets. Access to these records will be limited to authorized personnel.

The revised system of records will not be exempt from any provisions of the Privacy Act.

USDA/CSREES-2

System Name:

International Programs Recruitment Roster, USDA/CSREES-2.

System Location:

Cooperative State Research, Education, and Extension Service (CSREES), International Programs, USDA, Waterfront Centre, 800 9th Street, SW., Washington, DC 20024.

Categories of Individuals Covered by the System:

Cooperating university personnel interested in overseas assignments.

Categories of Records in the System:

Personal data identifying the individual, such as name, address, university, telephone number, and e-mail address; summary background information categorized under headings, such as subject matter experience, commodity experience, functional experience, clientele experience, ecosystems experience, production systems experience, scope of experience, international experience, education and language proficiency; preferred length of assignment (short-, mid- or long-term); and personal resume.

Authority for Maintenance of the System:

Sections 296 and 297 of the Foreign Assistance Act of 1961, Pub. L. 87-195, 75 Stat. 424, as added by section 312 of the International Development and Food Assistance Act of 1975, Pub. L. 94-161, 89 Stat. 849; and section 1458 of the National Agricultural Research, Extension, and Teaching Policy Act of 1977, 7 U.S.C. 301 et seq., as amended by section 1436 of the Agriculture and Food Act of 1981, Pub. L. 97-98, 95 Stat. 1213.

Routine Uses of Records Maintained in the System, Including Categories of Users and the Purposes of Such Uses:

Records in this system may be disclosed to: (1) To international organizations seeking university personnel for placement in overseas projects and assignments; (2) the Department of Justice when: (a) The agency or any component thereof; or (b) any employee of the agency in his or her official capacity where the Department of Justice has agreed to represent the employee; or (c) the United States Government is a party to litigation or has an interest in such litigation, and by careful review, the agency determines that the records are both relevant and necessary to the litigation and the use of such records by the Department of Justice is therefore deemed by the agency to be for a purpose that is compatible with the purpose for which the agency collected the records; (3) an appropriate agency, whether Federal, State, or local, charged with the responsibility of investigating or prosecuting a violation of law or rule, regulation, or order issued pursuant thereto, when information available indicates a violation or potential violation of law, whether civil, criminal, or regulatory in nature, and whether arising by general statute or particular program statute, or by rule, regulation, or order issued pursuant to such statute; (4) in response to a request for discovery or appearance of a witness, to the extent that what is disclosed is relevant to the subject matter involved in a pending judicial or criminal proceeding or in response to a subpoena issued in a proceeding before a court or adjudicative body, to the extent that the records requested are relevant to the proceedings; and (5) a Member of Congress or to a Congressional staff member in response to an inquiry of the Congressional office made at the written request of the constituent about whom the record is maintained.

Policies and Practices for Storing, Retrieving, Accessing, Retaining, and Disposing of Records in the System:

Storage:

International Programs Recruitment Roster records are stored on a shared office computer drive and in file folders.

Retrievability:

Records can be accessed on the computer by individual name, university affiliation, preferred length of duty or keywords and phrases under any of the experience categories. Resumes will be filed by name in alphabetical order in file folders.

Safeguards:

On-line access to International Programs Recruitment Roster data is controlled by password protection. Information stored in file folders will be stored in locked file cabinets. Access to these records will be limited to authorized personnel.

Retention and Disposal:

Applicant information will remain on the system for a period of 3 years. At the end of each year the applicant will have the option to remain on the system for the following year, and make any needed changes in his/her file, or be dropped from the roster. At anytime during the year, the applicant may request that his/her files be removed from the system. Data for disposal is deleted from the computer memory.

System Manager(s) and Address:

Director, International Programs, USDA-CSREES-SERD, Stop 2203, 1400 Independence Avenue, SW., Washington, DC 20250-2203. The address for express mail or overnight courier service is: Director, International Programs, USDA-CSREES-SERD, Waterfront Centre, 800 9th Street, SW., Washington, DC 20024.

Notification Procedure:

An individual may request information regarding this system of records or information as to whether the system contains records pertaining to such individual from the System Manager. A request for information regarding an individual should include the individual's full name and address. Before any information about an individual is released, the System Manager may require the individual to provide proof of identity or require the requester to furnish an authorization from the individual to permit release of information.

Record Access Procedures:

An individual may gain access to a record in the system that pertains to such individual by submitting a written request to the System Manager.

Contesting Record Procedures:

Same as notification procedures.

Record Source Categories:

Records in this system come from documents submitted by the individual directly for the purpose of inclusion in the International Programs Recruitment Roster.

Exemptions Claimed for the System:

None.

Privacy Act System “State Cooperative Extension Service Employees,” USDA/ CSREES-3 Report

The purpose of this system of records is to generate the annual Salary Analyses Report that is used as a management tool for salary and pay purposes, as well as for historical purposes. Cooperative Extension Service (CES) employee records are permanently maintained in the CES Personnel Information System database of CSREES. This database contains personnel information dated since 1922 and is maintained by the Agricultural Research Service, Human Resources Division.

The purposes of this revision to the system of records are to change the designation from USDA/ES-3 to USDA/CSREES-3; reflect organizational changes; identify changes to system location, categories of records in the system, safeguards, system manager address, and storage; and add three routine uses.

The authorities for maintaining this system of records are 7 U.S.C. 341, et seq.

Use of this system, as established, should not result in infringement of any individual's right to privacy. While the information in this system will be made available to MSB-HRD staff, Department of Justice, Federal, State and local agencies, and Members of Congress as necessary, all individuals about whom information in this system is maintained will voluntarily submit the information for the purpose of generating the annual Salary Analyses Report.

Authorization must be obtained from the Administrator, CSREES, or the Chief Metropolitan Services Branch (MSB), Human Resources Division (HRD), Agricultural Research Service, before information is released. All printed matter is kept in locked rooms.

The system provides for three new routine use releases, as follows:

Routine use 1 permits disclosure to the Department of Justice when the agency or any component thereof, or any employee of the agency in his or her official capacity where the Department of Justice has agreed to represent the employee, or the United States Government is a party to a litigation or has an interest in such litigation and it is determined that the records are both relevant and necessary to the litigation.

Routine use 2 permits disclosure to an appropriate agency, whether Federal, State, or local, charged with the responsibility of investigating or prosecuting a violation of law or rule, regulation, or order issued when information available indicates a violation or potential violation of law.

Routine use 3 permits disclosure in response to a request for discovery or appearance of a witness, to the extent that what is disclosed is relevant to the subject matter involved in a pending judicial or criminal proceeding or in response to a subpoena issued in a proceeding before a court or adjudicative body, to the extent that the records requested are relevant to the proceedings.

The revised system of records will not be exempt from any provisions of the Privacy Act.

USDA/CSREES-3

System Name:

State Cooperative Extension Service Employees, USDA-CSREES-3.

System Location:

USDA-ARS-HRD-MSB, CES Team, Portals Building, 1280 Maryland Avenue, SW, Washington, DC 20024.

Categories of Individuals Covered by the System:

All professional employees of the State Cooperative Extension Service from 1968 to present.

Categories of Records in the System:

Personnel and payroll information on professional Cooperative Extension Service employees.

Authority for Maintenance of the System:

7 U.S.C. 341, et seq.

Routine Uses of Records Maintained in the System, Including Categories of Users and the Purposes of Such Uses:

Records in this system may be disclosed to: (1) The Department of Justice when: (a) The agency or any component thereof; or (b) any employee of the agency in his or her official capacity where the Department of Justice has agreed to represent the employee; or (c) the United States Government is a party to litigation or has an interest in such litigation, and by careful review, the agency determines that the records are both relevant and necessary to the litigation and the use of such records by the Department of Justice is therefore deemed by the agency to be for a purpose that is compatible with the purpose for which the agency collected the records; (2) an appropriate agency, whether Federal, State, or local, charged with the responsibility of investigating or prosecuting a violation of law or rule, regulation, or order issued pursuant thereto, when information available indicates a violation or potential violation of law, whether civil, criminal, or regulatory in nature, and whether arising by general statute or particular program statute, or by rule, regulation, or order issued pursuant to such statute; (3) in response to a request for discovery or appearance of a witness, to the extent that what is disclosed is relevant to the subject matter involved in a pending judicial or criminal proceeding or in response to a subpoena issued in a proceeding before a court or adjudicative body, to the extent that the records requested are relevant to the proceedings; and (4) a Member of Congress or to a Congressional staff member in response to an inquiry of the Congressional office made at the written request of the constituent about whom the record is maintained.

Policies and Practices for Storing, Retrieving, Accessing, Retaining, and Disposing of Records in the System:

Storage:

Records are maintained in an electronic database at the USDA-ARS-HRD-MSB, Portals Building, 1280 Maryland Avenue, SW, Washington, DC 20024.

Retrievability:

Records can be retrieved by social security number or other unique State identifying number.

Safeguards:

Authorization must be obtained from the Administrator, CSREES, or the Chief, MSB-HRD, ARS, before information is released. All printed matter is kept in locked rooms.

Retention and Disposal:

Records are retained indefinitely.

System Manager(s) and Address:

Personnel and Data Information Specialist, USDA-ARS-HRD-MSB, CES Team, Portals Building, 1280 Maryland Avenue, SW, Washington, DC 20024.

Notification Procedures:

Any individual may gain access to a record in the system that pertains to such individual by submitting a written request to the System Manager.

Record Access Procedures:

Any individual may obtain information as to the procedures for gaining access to a record in the system that pertains to such individual by submitting a written request to the System Manager.

Contesting Record Procedures:

Any individual may contest a record in the system that pertains to such individual by submitting written information to the System Manager.

Record Source Categories:

Information in this system comes primarily from the employee with additional data provided by the employee's personnel office.

Exemptions Claimed for the System:

None.

Privacy Act System “CSREES Grants System,” USDA/CSREES-4 Report

The purpose of this new system of records is to enable program offices to reference reviewers and maintain appropriate files and supporting material in processing, evaluating, and managing applications for grants or other support, including completing awards and distributing funds. CSREES employees may access the system to make decisions regarding proposals and to perform any other authorized internal duties.

The authority for maintaining this system of records is the National Agricultural Research, Extension, and Teaching Policy Act of 1977; 7 U.S.C. 3318.

Use of this system, as established, should not result in infringement of any individual's right to privacy. While the information in this system will be made available to Federal, State, and local agencies, individuals assisting CSREES staff, Department of Justice, and Members of Congress as necessary, all individuals about whom information in this system is maintained will voluntarily submit the information for the purpose of submitting proposals to CSREES and for evaluating applicants and their proposals.

The records are maintained on system file servers and paper files. All records containing personal information are maintained in secured file cabinets or are accessed by unique passwords and log-on procedures.

The system provides for seven types of routine use releases, as follows:

Routine use 1 permits disclosure to federal agencies needing names of potential reviewers or specialists in particular fields.

Routine use 2 permits disclosure to individuals assisting CSREES staff, either through grant or contract, in the performance of their duties.

Routine use 3 permits disclosure to federal agencies as part of the Presidential Management Initiative, E-Grants.

Routine use 4 permits disclosure to the Department of Justice when the agency or any component thereof, or any employee of the agency in his or her official capacity where the Department of Justice has agreed to represent the employee, or the United States Government is a party to a litigation or has an interest in such litigation and it is determined that the records are both relevant and necessary to the litigation.

Routine use 5 permits disclosure to an appropriate agency, whether Federal, State, or local, charged with the responsibility of investigating or prosecuting a violation of law or rule, regulation, or order issued when information available indicates a violation or potential violation of law.

Routine use 6 permits disclosure in response to a request for discovery or appearance of a witness, to the extent that what is disclosed is relevant to the subject matter involved in a pending judicial or criminal proceeding or in response to a subpoena issued in a proceeding before a court or adjudicative body, to the extent that the records requested are relevant to the proceedings.

Routine use 7 permits disclosure to a Member of Congress or to a Congressional staff member in response to an inquiry of the Congressional office made at the written request of the constituent about whom the record is maintained.

This new system of records will not be exempt from any provisions of the Privacy Act.

USDA/CSREES-4

System Name:

CSREES Grants Systems, USDA-CSREES-4.

System Location:

Records are maintained in Program, Grants, and Funds Management offices and in a computerized system at the Cooperative State, Research, Education, and Extension Service (CSREES), Waterfront Centre, 800 9th Street, SW, Washington, DC 20024.

Categories of Individuals Covered by the System:

Individuals that have submitted proposals to CSREES, either individually or through an academic or other institution, and peer reviewers that evaluate CSREES applicants and their proposals.

Categories of Records in the System:

The system contains records of the project director, the authorized organizational representative, potential proposal reviewers, the proposal and its identifying number, supporting data from the academic institution or other applicant, proposal evaluations from peer reviewers, a review record, financial data, and other related material such as, committee or panel discussion summaries and other agency records containing or reflecting comments on the proposal or the applicants from peer reviewers.

Authority for Maintenance of the System:

National Agricultural Research, Extension, and Teaching Policy Act of 1977 (NARETPA), 7 U.S.C. 3318.

Routine Uses of Records Maintained in the System, Including Categories of Users and the Purposes of Such Uses:

Records in this system may be disclosed to (1) federal agencies needing names of potential reviewers or specialists in particular fields; (2) individuals assisting CSREES staff, either through grant or contract, in the performance of their duties; (3) federal agencies as part of the Presidential Management Initiative, E-Grants; (4) the Department of Justice when: (a) The agency or any component thereof; or (b) any employee of the agency in his or her official capacity where the Department of Justice has agreed to represent the employee; or (c) the United States Government is a party to litigation or has an interest in such litigation, and by careful review, the agency determines that the records are both relevant and necessary to the litigation and the use of such records by the Department of Justice is therefore deemed by the agency to be for a purpose that is compatible with the purpose for which the agency collected the records; (5) an appropriate agency, whether Federal, State, or local, charged with the responsibility of investigating or prosecuting a violation of law or rule, regulation, or order issued pursuant thereto, when information available indicates a violation or potential violation of law, whether civil, criminal, or regulatory in nature, and whether arising by general statute or particular program statute, or by rule, regulation, or order issued pursuant to such statute; (6) in response to a request for discovery or appearance of a witness, to the extent that what is disclosed is relevant to the subject matter involved in a pending judicial or criminal proceeding or in response to a subpoena issued in a proceeding before a court or adjudicative body, to the extent that the records requested are relevant to the proceedings; and (7) a Member of Congress or to a Congressional staff member in response to an inquiry of the Congressional office made at the written request of the constituent about whom the record is maintained.

Policies and Practices for Storing, Retrieving, Accessing, Retaining, and Disposing of Records in the System:

Storage:

Records are maintained on system file servers and paper files in the program offices at CSREES, Waterfront Centre, 800 9th Street, SW, Washington, DC 20024.

Retrievability:

Records can be retrieved by name, project leader, co-investigator, and any other data field such as institution or title.

Safeguards:

All records containing personal information are maintained in secured file cabinets or are accessed by unique passwords and log-on procedures. Only those employees with a need-to-know in order to perform their duties will be able to access the information.

Retention and Disposal:

The Data File is cumulative and is maintained indefinitely, and documents are disposed according to agency file plan and disposition schedule. Non-funded proposals are maintained onsite for 1 year and then disposed after 3 years. Funded proposals are maintained onsite for 1 year after completion of the award, and then transferred to the National Archive and Records Administration.

System Manager(s) and Address:

Deputy Administrator, Information Systems and Technology Management (ISTM), USDA-CSREES, Stop 2216, 1400 Independence Avenue, SW, Washington, DC 20250-2216. The address for express mail or overnight courier service is: Deputy Administrator, ISTM, USDA-CSREES, Waterfront Centre, 800 9th Street, SW, Washington, DC 20024.

Notification Procedure:

Any individual may request information regarding this system of records or information as to whether the system contains records pertaining to such individual from the System Manager.

Record Access Procedure:

Any individual may gain access to a record in the system that pertains to such individual by submitting a written request to the System Manager.

Contesting Record Procedures:

Any individual may contest a record in the system that pertains to such individual by submitting written information to the System Manager.

Record Source Categories:

Information in this system is obtained from the individuals submitting the proposals and from peer reviewers.

Exemptions Claimed for the System:

None.

Privacy Act System “Cooperative Extension Personnel Records System,” USDA/ES-2

The purpose of this notice is to delete this system of records because the records are no longer relevant and necessary to accomplish a purpose of the Agency and the records are no longer maintained by USDA.

[FR Doc. 03-29990 Filed 12-1-03; 8:45 am]

BILLING CODE 3410-22-P